DEPARTMENT OF ENERGY

Federal Energy Regulatory Commission

Combined Notice of Filings #2

Take notice that the Commission received the following electric rate filings:

Docket Numbers: ER10-1932-025; ER10-1950-038; ER10-1962-034; ER12-1228-039; ER13-2112-029; ER13-81-004; ER14-1494-001; ER14-2447-006; ER15-2101-023; ER15-2477-027; ER15-2601-018; ER16-90-027; ER16-2275-027; ER16-2276-027; ER17-2340-024; ER18-2246-027; ER19-1392-016; ER19-2389-018; ER19-2398-023; ER20-2019-015; ER20-2064-017; ER20-2690-019; ER21-254-012; ER21-1953-017; ER21-2225-015; ER22-1982-014; ER22-2536-012; ER23-2629-009; ER24-827-008; ER24-1816-005; ER24-2512-006; ER24-2513-006; ER24-2514-006; ER25-67-004; ER25-705-004; ER25-796-005; ER25-1232-006; ER25-1527-004; ER25-1872-001; ER25-1873-001; ER25-1874-001; ER25-2252-003; ER25-2690-002; ER25-2749-001; ER25-3113-002; ER25-3114-002; ER25-3118-002; ER25-3122-001; ER25-3165-001; ER25-3166-001; ER25-3217-001; ER25-3245-001; ER25-3265-001; ER25-3274-002; ER25-3275-002.

Applicants: Grace Orchard Solar Interconnection, LLC, Grace Orchard Solar III, LLC, Jackalope Wind, LLC, Highland Solar I, LLC, High Spring Solar Energy, LLC, Harquahala Flats Energy Storage II, LLC, Harquahala Flats Energy Storage, LLC, Garnet Energy Center, LLC, Garden Wind Energy, LLC, Greenlee Solar, LLC, Green Mallard Solar, LLC, Greeley Wind Nebraska, LLC, Key Energy Storage, LLC, Greer Solar, LLC, FRP Miller Solar, LLC, FRP Forest Trail Solar, LLC, FRP Caldwell Solar, LLC, Knox County Wind Farm LLC, Kola Energy Storage, LLC, Jackson Fuller Energy Storage, LLC, Green River Solar, LLC, Grace Orchard Solar II, LLC, FRP Gadsden County Solar, LLC, FRP Columbia County Solar, LLC, FRP Gilchrist County Solar, LLC, High River Energy Center, LLC, Grace Orchard Energy Center, LLC, High Banks Wind, LLC, Kossuth County Wind, LLC, Great Prairie Wind, LLC, Irish Creek Wind, LLC, Heartland Divide Wind II, LLC, Harmony Florida Solar, LLC, Jordan Creek Wind Farm LLC, High Majestic Wind I, LLC, Gray County Wind, LLC, Hancock County Wind, LLC, Grazing Yak Solar, LLC, High Lonesome Mesa Wind, LLC, Heartland Divide Wind Project, LLC, Golden Hills North Wind, LLC, Kingman Wind Energy II, LLC, Kingman Wind Energy I, LLC, Golden Hills Interconnection, LLC, Green Mountain Storage, LLC, Golden Hills Wind, LLC, Golden West Power Partners, LLC, Granite Reliable Power, LLC, Hatch Solar Energy Center I, LLC, Frontier Utilities New York LLC, Genesis Solar, LLC, High Majestic Wind II, LLC, High Winds, LLC, Garden Wind, LLC, FPL Energy Wyman, LLC.

Description: Notice of Change in Status of Adelanto Solar II, LLC, et al.

Filed Date: 11/3/25.

Accession Number: 20251103-5310.

Comment Date: 5 p.m. ET 11/24/25.

Docket Numbers: ER10-1951-093; ER10-1966-027; ER10-1970-038; ER10-1972-038; ER10-1973-025; ER10-1974-036; ER10-2641-054; ER10-1852-121; ER11-4462-116; ER11-4677-035; ER12-895-037; ER12-2225-026; ER12-2226-026; ER12-2444-033; ER14-21-021; ER14-1630-022; ER14-2138-024; ER14-2707-034; ER14-2710-034; ER15-58-032; ER15-1375-028; ER16-1354-021; ER16-1872-028; ER16-2241-027; ER16-2297-028; ER16-2443-024; ER16-2506-030; ER17-838-090; ER17-1774-016; ER18-772-017; ER18-1535-017; ER18-1771-028; ER18-2003-023; ER18-2066-018; ER18-2182-024; ER19-11-018; ER20-792-017; ER20-1220-019; ER20-1879-020; ER20-1907-016; ER20-1985-015; ER20-1988-016; ER20-2012-013; ER20-2648-016; ER20-2695-019; ER21-183-011; ER21-1880-013; ER21-2117-015; ER21-2149-015; ER21-2699-016; ER23-489-011; ER23-1208-009; ER24-2792-007; ER24-2794-007; ER25-1255-001; ER25-1285-002; ER25-1348-006; ER25-2253-002; ER25-2356-001; ER25-2357-001; ER25-2415-001; ER25-3115-002; ER25-3150-001; ER25-3229-001; ER25-3242-001; ER25-3243-001; ER26-92-001.

Applicants: Panhandle Energy Storage, LLC, Logan Wind, LLC, Limon Wind III Energy, LLC, Okolona Solar, LLC, Mount Vernon Battery Storage, LLC, Manila Solar, LLC, Panama Energy Center, LLC, Northern Divide Energy Storage, LLC, Ninnescah Flats Solar, LLC, Mondu Solar, LLC, New Madrid Solar, LLC, Mammoth Plains Wind, LLC, Palo Duro Wind, LLC, Minco II Energy Storage, LLC, Oliver Wind IV, LLC, North Central Valley Energy Storage, LLC, Neptune Energy Center, LLC, Minco Wind Energy III, LLC, Minco Wind Energy II, LLC, Little Blue Wind Project, LLC, Niyol Wind, LLC, Nutmeg Solar, LLC, Mohave County Wind Farm LLC, Northern Divide Wind, LLC, Orbit Bloom Energy, LLC, Northern Colorado Wind Energy Center II, LLC, Northern Colorado Wind Energy Center, LLC, Minco Wind I, LLC, Oliver Wind I, LLC, Oliver Wind II, LLC, Oklahoma Wind, LLC, Peetz Logan Interconnect, LLC, Minco IV & V Interconnection, LLC, Minco Wind IV, LLC, Lorenzo Wind, LLC, Langdon Renewables, LLC, Montauk Energy Storage Center, LLC, New Mexico Wind, LLC, NextEra Energy Bluff Point, LLC, NextEra Energy Marketing, LLC, Oliver Wind III, LLC, NextEra Blythe Solar Energy Center, LLC, Osborn Wind Energy, LLC, Ninnescah Wind Energy, LLC, Marshall Solar, LLC, Live Oak Solar, LLC, McCoy Solar, LLC, Palo Duro Wind Interconnection Services, LLC, Palo Duro Wind Energy, LLC, Mammoth Plains Wind Project, LLC, Limon Wind III, LLC, Mantua Creek Solar, LLC, Mountain View Solar, LLC, North Sky River Energy, LLC, Limon Wind, LLC, Limon Wind II, LLC, Minco Wind Interconnection Services, LLC, NextEra Energy Montezuma II Wind, LLC, NEPM II, LLC, Florida Power & Light Company, Oleander Power Project, Limited Partnership, Northeast Energy Associates, A Limited Partnership, NextEra Energy Seabrook, LLC, NextEra Energy Point Beach, LLC, NextEra Energy Duane Arnold, LLC, Logan Wind Energy LLC, NextEra Energy Services Massachusetts, LLC.

Description: Notice of Change in Status of Adelanto Solar II, LLC, et al.

Filed Date: 11/3/25.

Accession Number: 20251103-5309.

Comment Date: 5 p.m. ET 11/24/25.

Docket Numbers: ER11-4678-034; ER12-631-035; ER12-1660-037; ER15-2181-001; ER15-2681-001; ER16-1277-021; ER16-1293-021; ER17-582-026; ER17-583-026; ER17-2270-029; ER18-2032-023; ER18-2091-020; ER19-774-016; ER19-1076-019; ER19-1618-001; ER19-2382-021; ER19-2495-019; ER19-2513-019; ER20-637-017; ER20-780-017; ER20-2070-014; ER20-2237-017; ER20-2597-017; ER20-2622-012; ER21-744-010; ER21-2109-012; ER22-1870-010; ER22-2601-012; ER22-2824-014; ER23-493-011; ER23-854-008; ER23-884-008; ER24-136-011; ER24-818-008; ER24-1287-007; ER24-1288-007; ER24-2802-002; ER24-2848-008; ER25-554-004; ER25-668-006; ER25-819-001; ER25-1315-002; ER25-1340-004; ER25-2358-001; ER25-2416-003; ER25-2505-003; ER25-2506-003; ER25-2646-001; ER25-2651-001; ER25-2688-001; ER25-3015-001; ER25-3116-002; ER25-3120-002; ER25-3123-001; ER25-3149-001; ER25-3202-001; ER25-3244-001; ER25-3247-001; ER25-3256-001; ER25-3277-002; ER25-3278-002.

Applicants: Yellow Pine Solar Interconnect II, LLC, Yellow Pine Solar III, LLC, Windy Lane Energy Center, LLC, South Platte Solar, LLC, Thunder Wolf II, LLC, Wilsonville Solar, LLC, Valley Farms Energy Center, LLC, Trelina Solar Energy Center, LLC, Three Waters Wind Farm, LLC, Tupelo Brake Solar, LLC, Titan Solar Energy, LLC, Star Light Energy Center, LLC, Wildcat Ranch Wind Project, LLC, Wildcat Ranch Energy Storage, LLC, Weirs Creek Solar, LLC, St. Landry Solar, LLC, Weld Energy Storage, LLC, Steele Flats Energy Storage, LLC, Wildwood Solar, LLC, Willow Creek Wind Project, LLC, Woodward Energy Storage, LLC, Wheatridge East Wind, LLC, Wild Plains Wind Project, LLC, Troutdale Grid, LLC, Steele Flats Wind I, LLC, Washington County Solar, LLC, Wadley Solar, LLC, Yellow Pine Solar II, LLC, Sunlight Storage II, LLC, Sonoran Solar Energy, LLC, Storey Energy Center, LLC, Thunder Wolf Energy Center, LLC, Yellow Pine Solar, LLC, Walleye Wind, LLC, Vansycle II Wind, LLC, Wheatridge Solar Energy Center, LLC, Wallingford Renewable Energy LLC, Wilmot Energy Center, LLC, Soldier Creek Wind, LLC, Weatherford Wind, LLC, Wheatridge Wind II, LLC, Sooner Wind, LLC, Wilton Wind Energy I, LLC, Wilton Wind Energy II, LLC, Wessington Springs Wind, LLC, Story County Wind, LLC, Steele Flats Wind Project, LLC, Windstar Energy, LLC, Stanton Clean Energy, LLC, Titan Solar, LLC, Wildcat Ranch Wind Project, LLC, Stuttgart Solar, LLC, Whitney Point Solar, LLC, Westside Solar, LLC, White Oak Solar, LLC, White Pine Solar, LLC, White Oak Energy LLC, Tuscola Wind II, LLC, Tuscola Bay Wind, LLC, Windpower Partners 1993, LLC, Vasco Winds, LLC.

Description: Notice of Change in Status of Adelanto Solar II, LLC, et al.

Filed Date: 11/3/25.

Accession Number: 20251103-5312.

Comment Date: 5 p.m. ET 11/24/25.

Docket Numbers: ER12-676-027; ER13-2461-030; ER14-2708-035; ER14-2709-032; ER15-1016-027; ER15-2243-025; ER16-1440-028; ER16-1913-018; ER16-2240-028; ER17-196-015; ER18-807-018; ER18-1981-023; ER18-2224-028; ER18-2314-021; ER19-1128-017; ER15-30-032; ER19-2266-014; ER20-1219-015; ER20-1417-016; ER20-1991-017; ER20-2153-013; ER20-2380-014; ER20-2603-017; ER21-1506-011; ER21-1532-011; ER21-1580-016; ER21-2048-017; ER21-2100-016; ER21-2641-010; ER22-96-010; ER23-147-011; ER23-148-011; ER23-853-007; ER23-1862-009; ER24-34-010; ER24-61-007; ER24-2793-007; ER25-109-006; ER25-1062-002; ER25-1314-003; ER25-1317-005; ER25-1349-006; ER25-1409-002; ER25-1410-002; ER25-1440-003; ER25-2254-003; ER25-2293-003; ER25-2611-001; ER25-2612-001; ER25-3012-001; ER25-3014-001; ER25-3110-002; ER25-3117-002; ER25-3151-001; ER25-3201-001; ER25-3215-001; ER25-3218-001; ER25-3219-001; ER25-3240-001; ER25-3276-002.

Applicants: Roadhouse Energy Storage, LLC, Persica Solar, LLC, Roy Solar, LLC, Pioneer Creek Wind Project, LLC, Saunder's Crossing Energy Storage, LLC, Shortleaf Solar, LLC, Selma Energy Center, LLC, Red Butte Wind, LLC, Rock Creek Solar, LLC, Rush Springs Solar, LLC, Pierce County Energy Center, LLC, Rumble Energy Storage, LLC, Rumble Solar, LLC, Sebree Solar II, LLC, Singer Solar, LLC, Skeleton Creek Energy Center, LLC, Route 66 Energy Storage, LLC, Sky Ranch Energy Storage II, LLC, Sebree Solar, LLC, Mammoth Plains Wind, LLC, Seiling Wind Energy II, LLC, Pluto Energy Storage, LLC, Silver State South Storage, LLC, Ponderosa Wind II, LLC, Sky Ranch Solar, LLC, Proxima Solar, LLC, Roundhouse Renewable Energy II, LLC, Saint Energy Storage II, LLC, Resurgence Solar II, LLC, Resurgence Solar I, LLC, Route 66 Solar Energy Center, LLC, Quinebaug Solar, LLC, Point Beach Solar, LLC, Sac County Wind, LLC, Sky River Wind, LLC, Quitman II Solar, LLC, Shaw Creek Solar, LLC, Skeleton Creek Wind, LLC, Saint Solar, LLC, Sanford Airport Solar, LLC, Ponderosa Wind, LLC, Roundhouse Renewable Energy, LLC, Peetz Table Wind, LLC, Quitman Solar, LLC, Seiling Wind Interconnection Services, LLC, Rush Springs Energy Storage, LLC, Sholes Wind Energy, LLC, Pegasus Wind, LLC, Pratt Wind, LLC, Pinal Central Energy Center, LLC, Pima Energy Storage System, LLC, Rush Springs Wind Energy, LLC, River Bend Solar, LLC, Roswell Solar, LLC, Silver State Solar Power South, LLC, Shafter Solar, LLC, Seiling Wind II, LLC, Seiling Wind, LLC, Pheasant Run Wind, LLC, Perrin Ranch Wind, LLC.

Description: Notice of Change in Status of Adelanto Solar II, LLC, et al.

Filed Date: 11/3/25.

Accession Number: 20251103-5311.

Comment Date: 5 p.m. ET 11/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov .

Dated: November 12, 2025.
Carlos D. Clay,
Deputy Secretary.

[FR Doc. 2025-19946 Filed 11-14-25; 8:45 am]

BILLING CODE 6717-01-P